FEDERAL COMMUNICATIONS COMMISSION

[OMB 3060-0767]

Information Collection Being Reviewed by the Federal Communications Commission

AGENCY: Federal Communications Commission.

ACTION: Notice and request for comments.

SUMMARY: As part of its continuing effort to reduce paperwork burdens, and as required by the Paperwork Reduction Act (PRA) of 1995 (44 U.S.C. 3501-3520), the Federal Communications Commission (FCC or Commission) invites the general public and other Federal agencies to take this opportunity to comment on the following information collection. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before March 27, 2017.

ADDRESSES: Direct all PRA comments to Cathy Williams, FCC, via email PRA@fcc.gov and to Cathy.Williams@fcc.gov. Include in the comments the Title as shown in the Supplementary Information section below.

FOR FURTHER INFORMATION CONTACT: For additional information about the information collection, contact Cathy Williams at (202) 418-2918.

SUPPLEMENTARY INFORMATION:

OMB Control Number: 3060-0767.

Title: Sections 1.2110, 1.2111 and 1.2112, Auction and Licensing Disclosures—Ownership and Designated Entity Status.

Form Number: N/A.

Type of Review: Revision of a currently approved collection.

Respondents: Business or other for profit, Not-for-profit institutions, and State, local or tribal government.

Number of Respondents: 310 respondents; 310 responses.

Estimated Time per Response: 0.50 hours to 2 hours.

Frequency of Response: On occasion reporting requirement, Third party disclosure requirement, and Recordkeeping requirement.

Obligation to Respond: Required to obtain or retain benefits. Statutory authority for both the currently approved information collection and the revised information collection is contained in sections 154(i) and 309(j) of the Communications Act, as amended, 47 U.S.C. 4(i) and 309(j)(5).

Total Annual Burden: 470 hours.

Total Annual Costs: $31,500.

Nature and Extent of Confidentiality: The Commission is not requesting that respondents submit confidential information to the Commission as part of this information collection. However, to the extent a respondent wishes to request confidential treatment of information submitted in response to this collection, it may do so in accordance with section 0.459 of the Commission's rules, 47 CFR 0.459.

Privacy Act Impact Assessment: No impact(s).

Needs and Uses: The Commission will submit this revised information collection to the Office of Management and Budget (OMB) after this 60-day comment period in order to obtain the full three-year clearance from OMB. In FCC 15-80, Updating Part 1 Report and Order, the Commission updated many of its Part 1 competitive bidding rules. Among other things, the Commission amended its definition of “designated entities” to include “eligible rural service providers,” and established a new designated entity benefit/bidding credit for eligible rural service providers. The Commission is reporting program changes/increases of 10 potential new designated entity respondents/responses 20 total annual hours, and $1,500 in annual cost due to the inclusion of eligible rural service providers among the potential respondents from which the Commission may collect information under this collection. While there may be as many as 10 new designated entity respondents/responses under this collection, the estimated time per response is unchanged because the type of information that must be provided by the new designated entity respondents is comparable to that required by designated entities under the currently-approved collection and is expected to take the same estimated amount of time to prepare.

Beginning first on May 5, 1997, OMB approved under OMB Control No. 3060-0767, the Commission's collections of information pursuant to sections 1.2110, 1.2111, and 1.2112 of the Commission's rules, 47 CFR 1.2110, 1.2111, and 1.2112, and their predecessors, regarding ownership and designated entity status of parties involved with Commission licenses. The Commission collects this information in several contexts, including when determining the eligibility of applicants to participate in Commission auctions (including eligibility to claim designated entity benefits), the eligibility of parties to hold a Commission license/authorization (including eligibility for designated entity benefits), the eligibility of parties to whom licenses/authorizations are being assigned or transferred, and the repayment by license/authorization holders of the amount of bidding credits received in Commission auctions to avoid unjust enrichment. Applicants and licensees/authorization holders claiming eligibility for designated entity status are subject to audits and a record-keeping requirement regarding FCC-licensed service concerning such claims of eligibility, to confirm that their representations are, and remain, accurate. The collection of this information will enable the Commission to determine whether applicants are qualified to bid on and hold Commission licenses/authorizations and, if applicable, to receive designated entity benefits, and is designed to ensure the fairness of the auction, licensing, and license/authorization assignment and transfer processes. The information collected will be reviewed and, if warranted, referred to the Commission's Enforcement Bureau for possible investigation and administrative action. The Commission may also refer allegations of anticompetitive auction conduct to the Department of Justice for investigation.

OMB has approved separately the routine collections of information pursuant to these Commission rules in applications to participate in Commission auctions, FCC Form 175, OMB Control No. 3060-0600, and in Commission licensing applications, FCC Form 601, OMB Control No. 3060-0798, and assignment/transfer of control applications, FCC Form 603, OMB Control No. 3060-0800. On occasion, the Commission may collect information from auction applicants and license/authorization holders pursuant to these rules under this information collection to clarify information provided in these forms or in circumstances to which the standard forms may not directly apply.

Federal Communications Commission.
Marlene H. Dortch,
Secretary, Office of the Secretary.

[FR Doc. 2017-01728 Filed 1-25-17; 8:45 am]

BILLING CODE 6712-01-P